DEPARTMENT OF COMMERCE

National Oceanic and Atmospheric Administration

RIN 0648-XD197

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council (Council) will hold a public information meeting to gather fishery industry perspectives on the likely impacts of alternative spiny dogfish trip limits.

DATES: The meeting will be Tuesday, April 8, 2014 beginning at 7 p.m. and will conclude by 9 p.m.

ADDRESSES: The meeting will be held via webinar with a listening station also available at the Council address below. Webinar link: http://mafmc.adobeconnect.com/dogfish/.

Council Address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The Mid-Atlantic Fishery Management Council (MAFMC) has formally recommended maintaining existing (4,000 lb) federal spiny dogfish trip limits for the 2014 and 2015 fishing years, while the New England Fishery Management Council has recommended eliminating federal trip limits for this fishery. In order to fully inform the impact analysis being prepared by the MAFMC and its development of comments during pending rulemaking, the MAFMC is holding a webinar to collect industry perspectives on the likely operational and economic impacts of existing and alternative spiny dogfish trip limit options for this fishery.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to M. Jan Saunders at the Mid-Atlantic Council Office, (302) 526-5251, at least 5 days prior to the meeting date.

Dated: March 18, 2014.
Tracey L. Thompson,
Acting Deputy Director, Office of Sustainable Fisheries, National Marine Fisheries Service.

[FR Doc. 2014-06216 Filed 3-20-14; 8:45 am]

BILLING CODE 3510-22-P